DEPARTMENT OF AGRICULTURE

Commodity Credit Corporation

Foreign Agricultural Service

Notice of Request for an Extension of a Currently Approved Information Collection

AGENCY: Commodity Credit Corporation and Foreign Agricultural Service, USDA.

ACTION: Notice and request for comments.

SUMMARY: In accordance with the Paperwork Reduction Act of 1995, this notice announces the Commodity Credit Corporation's (CCC) intention to request an extension for a currently approved information collection in support of the CCC Facility Guarantee Program (FGP).

DATES: Comments on this notice must be received by August 2, 2019 to be assured consideration.

FOR FURTHER INFORMATION CONTACT: Contact Amy Slusher, Deputy Director, Credit Program Division, Office of Trade Programs, Foreign Agricultural Service, U.S. Department of Agriculture, AgStop 1025, Washington, DC 20250-1025, telephone (202) 720-0775.

SUPPLEMENTARY INFORMATION:

Title: CCC Facility Guarantee Program (FGP).

OMB Number: 0551-0032.

Expiration Date of Approval: September 30, 2019.

Type of Request: Update of a currently approved information collection.

Abstract: Under the FGP, CCC provides payment guarantees to facilitate the financing of manufactured goods and U.S. services to improve or establish agriculture-related facilities in emerging markets. By supporting such facilities, the FGP is designed to enhance sales of U.S. agricultural commodities and products to emerging markets where the demand for such commodities and products may be limited due to inadequate storage, processing, handling, or distribution capabilities for such products.

The FGP is currently available in 92 countries. Under 7 CFR part 1493, U.S. sellers, foreign banks, and U.S. banks are required to submit the following: (1) Information about the seller, foreign banks, and U.S. banks for program participation; (2) applications for payment guarantees; (3) environmental impact statement/assessment; (4) notice of assignment of payment guarantee; (5) evidence of performance; (6) notice of default and claims for loss; and (7) dispute resolution and appeals. In addition, each seller and seller's assignee (U.S. financial institution) must maintain records on all information submitted to CCC and in connection with sales made under FGP. The information collected is used by CCC to manage, plan, evaluate, and account for government resources. The reports and records are required to ensure the proper and judicious use of public funds.

Estimate of Burden: The public reporting burden for these collections is estimated to average 1.281 hours per response.

Respondents: U.S. exporters (sellers), U.S. financial institutions, and foreign financial institutions.

Estimated Number of Respondents: 18 per year.

Estimated Number of Responses per Respondent: 15.6 per year.

Estimated Total Annual Burden of Respondents: 360.5 hours.

Copies of this information collection can be obtained from Connie Ehrhart, the Agency Information Collection Coordinator, at (202) 690-1578 or email at Connie.Ehrhart@fas.usda.gov.

Request for Comments: Send comments regarding (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on those who are to respond, including through the use of automated, electronic, mechanical, or other technological collection techniques or other forms of information technology.

Comments may be sent to Amy Slusher, Deputy Director, Credit Programs Division, Office of Trade Programs, Foreign Agricultural Service, U.S. Department of Agriculture, AgStop 1025, Washington, DC 20250-1025, or to the Desk Officer for Agriculture, Office of Information and Regulatory Affairs, Office of Management and Budget (OMB), Washington, DC 20503.

Persons with disabilities who require an alternative means for communication of information (Braille, large print, audiotape, etc.) should contact USDA's Target Center at (202) 720-2600 (voice and TDD). All responses to this notice will be summarized and included in the request for OMB approval. All comments will also become a matter of public record.

Dated: May 24, 2019.
Clay Hamilton,
Acting Administrator, Foreign Agricultural Service.
Dated: May 28, 2019.
Robert Stephenson,
Executive Vice President, Commodity Credit Corporation.

[FR Doc. 2019-11486 Filed 5-31-19; 8:45 am]

BILLING CODE 3410-10-P